DEPARTMENT OF COMMERCE

National Oceanic and Atmospheric Administration

RIN 0648-XA100

Taking and Importing Marine Mammals: Taking Marine Mammals Incidental to Navy's Mission Activities at the Naval Surface Warfare Center Panama City Division

AGENCY: National Marine Fisheries Service (NMFS), National Oceanic and Atmospheric Administration (NOAA), Commerce.

ACTION: Notice; issuance of a Letter of Authorization.

SUMMARY: In accordance with the Marine Mammal Protection Act (MMPA), as amended, and implementing regulations, notification is hereby given that NMFS has issued a one-year Letter of Authorization (LOA) to take marine mammals by harassment incidental to the U.S. Navy's Research, Development, Test and Evaluation (RDT&E) mission activities at the Naval Surface Warfare Center Panama City Division (NSWC PCD) to the Commander, U.S. Naval Surface Warfare Center Panama City Division, 110 Vernon Avenue, Panama City, FL 32407-7001 and persons operating under his authority.

DATES: Effective from January 21, 2011, through January 20, 2012.

ADDRESSES: Copies of the Navy's September 2, 2010, LOA application, the LOA, the Navy's 2010 marine species monitoring report and the Navy's 2010 annual mission activities report are available by writing to P. Michael Payne, Chief, Permits, Conservation and Education Division, Office of Protected Resources, National Marine Fisheries Service, 1315 East-West Highway, Silver Spring, MD 20910, by telephoning the contact listed here (See FOR FURTHER INFORMATION CONTACT), or online at: http://www.nmfs.noaa.gov/pr/permits/incidental.htm#applications. Documents cited in this notice may be viewed, by appointment, during regular business hours, at the aforementioned address.

FOR FURTHER INFORMATION CONTACT: Shane Guan, Office of Protected Resources, NMFS (301) 713-2289 x137.

SUPPLEMENTARY INFORMATION:

Background

Section 101(a)(5)(A) of the MMPA (16 U.S.C. 1361 et seq.) directs the Secretary of Commerce to allow, upon request, the incidental, but not intentional taking of marine mammals by U.S. citizens who engage in a military readiness activity if certain findings are made and regulations are issued.

Authorization may be granted for periods of 5 years or less if NMFS finds that the taking will have a negligible impact on the species or stock(s), and will not have an unmitigable adverse impact on the availability of the species or stock(s) for subsistence uses. In addition, NMFS must prescribe regulations that include permissible methods of taking and other means of effecting the least practicable adverse impact on the species and its habitat, and on the availability of the species for subsistence uses, paying particular attention to rookeries, mating grounds, and areas of similar significance. The regulations also must include requirements pertaining to the monitoring and reporting of such taking.

Regulations governing the taking of marine mammals incidental to the U.S. Navy's RDT&E activities at the NSWC PCD were published on January 21, 2010 (75 FR 3395), and remain in effect through January 21, 2015. They are codified at 50 CFR part 218 subpart S. These regulations include mitigation, monitoring, and reporting requirements for the incidental taking of marine mammals by the Navy's RDT&E activities. For detailed information on these actions, please refer to the January 21, 2010 Federal Register notice and 50 CFR part 218 subpart S.

Summary of LOA Request

NMFS received an application from the U.S. Navy for an LOA covering the Navy's RDT&E activities at NSWC PCD off the U.S. Gulf of Mexico under the regulations issued on January 21, 2010 (75 FR 3395). The application requested authorization, for a period not to exceed one year, to take, by harassment, marine mammals incidental to proposed RDT&E activities that involve underwater explosive detonation, projectile firing, and sonar testing.

Summary of Activity Under the 2010 LOA

As described in the Navy's exercise report, which covered the period between January and August 2010, the RDT&E activities conducted by the Navy were within the scope and amounts contemplated by the final rule. None of the testing events exceeded the average annual allotment except for the AN/AQS-20 in non-territorial waters, which exceeded the annual allotment by 9.3%, but was still within the five-year total allotment for this type of event. No test activities involving underwater explosive detonations and projectile firing were conducted between January and August 2010.

As shown in Tables 1 and 2, most of the mid-frequency active sonar (MFAS) and high-frequency active sonar (HFAS) testing events were far below the levels authorized in the annual LOA.

Table 1—Total Annual Number of Each Type of MFAS and HFAS Listed at 50 CFR 218.180 Conducted in the NSWC PCD Study Area in Territorial Waters (Number Authorized vs. Conducted).
Sonar system | Number authorized (hrs) | Number conducted (hrs)
AN/SQS-53/56 Kingfisher | 3 | 0
Sub-bottom profiler (2-9 kHz) | 21 | 0
REMUS SAS-LF | 12 | 12
REMUS Modem | 25 | 25
Sub-bottom profiler (2-16 kHz) | 24 | 24
AN/SQQ-32 | 30 | 0
REMUS-SAS-LF | 20 | 20
SAS-LF | 35 | 35
AN/WLD-1RMS-ACL | 33.5 | 26.3
BPAUV Sidescan | 25 | 0
TVSS | 15 | 0
F84Y | 15 | 0
BPAUV Sidescan | 25 | 0
REMUS-SAS-HF | 10 | 0
SAS-HF | 11.5 | 0
AN/AQS-20 * | 545 | 27.3
AN/WLD-11 RMS Navigation | 15 | 0
BPAUV Sidescan | 30 | 0
* In the 2010 LOA, this system was incorrectly listed as the AN/SQS-20.

Table 2—Total Annual Number of Each Type of MFAS and HFAS Listed at 50 CFR 218.180 Conducted in the NSWC PCD Study Area in Non-Territorial Waters (Number Authorized vs. Conducted).
Sonar system | Number authorized (hrs) | Number conducted (hrs)
AN/SQS-53/56 Kingfisher | 1 | 0
Sub-bottom profiler (2-9 kHz) | 1 | 0
REMUS Modem | 12 | 1.3
Sub-bottom profiler (2-16 kHz) | 1 | 0
AN/SQQ-32 | 1 | 0
SAS-LF | 1 | 0
AN/WLD-1RMS-ACL | 5 | 0
BPAUV Sidescan | 38 | 0
TVSS | 16.5 | 0
F84Y | 15 | 0
REMUS-SAS-HF | 25 | 0
SAS-HF | 15 | 0
AN/AQS-20 * | 15 | 16.4
BPAUV Sidescan | 25 | 0
* In the 2010 LOA, this system was incorrectly listed as the AN/SQS-20.

Planned Activities for 2010

In 2010, the Navy expects to conduct the same type and amount of RDT&E activities identified in the final rules and 2010 LOA. No modification is proposed by the Navy for its planned 2010 activities.

Estimated Take for 2010

The estimated takes for the Navy's proposed 2010 RDT&E activities are the same as those in authorized in 2010. No change has been made in the estimated takes from the 2010 LOA.

Summary of Monitoring, Reporting, and Other Requirements Under the 2009 LOA

Annual Mission Activities Report

The Navy submitted their 2010 annual mission activities report covering the period from January through August 2010 within the required timeframes and it is posted on NMFS Web site: http://www.nmfs.noaa.gov/pr/permits/incidental.htm#applications. NMFS has reviewed the report and it contains the information required by the 2010 LOA. The report lists the amount of hours sonar testing was conducted between January and August 2010. During this time period, NSWC PCD conducted 187.3 hours of sonar testing, 169.6 hours in territorial waters (Table 1) and 17.7 hours in non-territorial waters (Table 2). No RDT&E activities associated with underwater detonations were conducted during this period.

Monitoring and Annual Monitoring Reports

In the 2010 LOA to the Navy, it states that the Navy “shall visually survey a minimum of 2 HFAS/MFAS activities and 2 explosive events per year” as monitoring activities for the Navy's NSWC PCD RDT&E activities. NMFS realized late that this was an error as this was inconsistent with what was agreed upon between NMFS and the Navy. The Navy stated, and NMFS agreed, that since the rule and the associated LOA was expected to be issued in late January 2010 (it was actually issued on January 21, 2010), it would not be feasible to conduct a monitoring activity within the remaining eight months of FY 2010 (between February and September 2010). Therefore, NMFS agreed with the Navy that no monitoring would be required for FY 2010. Nevertheless, the Navy will be required to monitor a minimum of 2 HFAS/MFAS activities and 2 explosive events per year for the remaining four years of the rule, given that an adequate number of RDT&E activities will be conducted during the period.

The Navy submitted a marine species monitoring report within the required timeframes and it is posted on NMFS Web site: http://www.nmfs.noaa.gov/pr/permits/incidental.htm#applications. The monitoring report covers the period between January and August 2010. From January to August 2010, there have been no monitoring opportunities available for explosive or projectile firing events in the NSWC PCD study area as none of these activities were conducted. No monitoring was conducted for sonar activities during this period as the Navy was working on awarding a monitoring contract and developing standard operating procedures. The Navy states that the NSWC PCD Environmental Office and Test and Evaluation Branch has since identified the appropriate contracting vehicle and worked with the consulting firm to develop annual budgetary, scheduling, and monitoring support requirements.

The Navy will conduct two monitoring activities for sonar activities and two for explosive events in FY2011.

Integrated Comprehensive Management Program (ICMP) Plan

The ICMP will be used both as: (1) A planning tool to focus Navy monitoring priorities (pursuant to ESA/MMPA requirements) across Navy Range Complexes and Exercises; and (2) an adaptive management tool, through the consolidation and analysis of the Navy's monitoring and marine observer data, as well as new information from other Navy programs (e.g., research and development), and other appropriate newly published information. The Navy updated its 2010 ICMP Plan and will comply with the Plan. The ICMP may be viewed at: http://www.nmfs.noaa.gov/pr/permits/incidental.htm.

NOAA Workshops

In a January 19, 2010, letter to the Council on Environmental Quality, NOAA identified the need for two interrelated workshops on marine mammals and sound in the ocean. To address this commitment, NOAA is convening two parallel, focused, relatively small, and product-driven working groups. One will identify and map cetacean “hot spots”, defined as areas of known, or reasonably predictable, biological importance (i.e., for reproduction, feeding, migration) and/or high densities. The second working group will be directed toward developing a comprehensive data collection and analysis plan for describing and predicting underwater sound fields in different areas. The outcomes of these working groups will be integrated and analyzed in a broader follow-on symposium to include a larger audience of scientists, industries, federal agencies, conservation managers, and environmental NGOs. The final products and analyses will provide a more robust, comprehensive, and context-specific biological and acoustic basis by which to inform subsequent management decisions regarding human noise in our oceans. The steering committee has been convened and met for the first time in October 2010. The working group efforts should take about a year to complete, and we expect the final symposium to be held in early 2012. The results of these working groups will be analyzed by NMFS in an adaptive management context, as related to the Panama City final rule, and mitigation or monitoring measures may be modified, as appropriate.

Adaptive Management and 2010 Monitoring Plan

NMFS and the Navy conducted an adaptive management meeting in October 2010 wherein we reviewed the Navy monitoring results through August 1, 2010, discussed other Navy research and development efforts, and discussed other new information that could potentially inform decisions regarding Navy mitigation and monitoring. Since there was no monitoring conducted at PCD during the first seven months of 2010 (from January 21 to August 1, 2010) as discussed above, no modifications were made concerning the monitoring plan for the NSWC PCD RDT&E activities.

Additionally, the monitoring conducted under the Atlantic Fleet Active Sonar Training (AFAST) regulations (which also cover the Gulf of Mexico), as well as under the Hawaii Range Complex and Southern California (SOCAL) Range Complex regulations, was also considered at the October adaptive management meeting. The Navy's implementation of the monitoring plans under these other regulations successfully contributed to the following larger bodies of data: (1) A greater knowledge and understanding of the density and distribution of species within the AFAST study area; (2) the vocalizations of different species, which advances the development of automated classification software; (3) the movement patterns of individual (both vertically in the water column as well as horizontally for the duration of a DTAG deployment); and (4) observable behavioral patterns of marine mammals, before, during, and after exposure to Navy training activities. However, while the data collected by the Navy through monitoring and reporting builds upon the existing body of information in a valuable way, none of the new data contradict, or amend, the assumptions that underlie the findings in the 2010 PCD rule in a manner that would suggest changing the current mitigation or monitoring.

Authorization

The Navy complied with the requirements of the 2010 LOA. Based on our review of the Navy's annual mission activities report, which shows that the amount of sonar testing hours was far below the annual authorized levels and that no underwater detonation and projectile firing were conducted during FY 2010, NMFS has determined that the effects to marine mammals that resulted from the 2010 NWSC PCD RDT&E activities were likely lower than analyzed. Although no monitoring activities were conducted during the Navy's first seven months' of activity for FY 2010, the low level of activity supports a conclusion that the total number of marine mammals taken by the RDT&E activities at the NSWC PCD will have no more than a negligible impact on the affected species or stock of marine mammals. (There is no subsistence use of marine mammals that could potentially be impacted by the Navy's activities at NSWC PCD.) Accordingly, NMFS has issued a one-year LOA for Navy RDT&E activities at the NSWC PCD from January 21, 2011, through January 20, 2012.

Dated: January 13, 2011.
Helen Golde,
Deputy Director, Office of Protected Resources, National Marine Fisheries Service.

[FR Doc. 2011-1030 Filed 1-18-11; 8:45 am]

BILLING CODE 3510-22-P